SECURITIES AND EXCHANGE COMMISSION

Sunshine Act Meeting

Federal Register Citation of Previous Announcement: [69 FR 25448, May 6, 2004]

Status: Closed meeting.

Place: 450 Fifth Street, NW., Washington, DC.

Date and Time of Previously Announced Meeting: Tuesday, May 11, 2004 at 2:30 p.m.

Change in the Meeting: Cancellation of meeting.

The Closed Meeting scheduled for Tuesday, May 11, 2004 has been cancelled. For further information please contact the Office of the Secretary at (202) 942-7070.

Dated: May 10, 2004.
Jonathan G. Katz,
Secretary.

[FR Doc. 04-10871 Filed 5-10-04; 10:59 am]

BILLING CODE 8010-01-P